NATIONAL CREDIT UNION ADMINISTRATION

Notice of Meeting

Time and Date: 10 a.m., Thursday, September 15, 2005.

Place: Board Room, 7th Floor, Room 7074, 1775 Duke Street, Alexandria, VA 22314-3428.

Status: Open.

Matters to be Considered: 1. Request from a Federal Credit Union to Convert to a Community Charter.

2. Proposed Rule: Section 741.6(a) of NCUA's Rules and Regulations, Financial and Statistical and Other Reports.

3. Final Rule: Part 712 of NCUA's Rules and Regulations, Credit Union Service Organizations.

Time and Date: 9 a.m., Thursday, September 15, 2005.

Place: Board Room, 7th Floor, Room 7047, 1775 Duke Street, Alexandria, VA 22314-3428.

Status: Closed.

Matters to be Considered: 1. One (1) Insurance Appeal. Closed pursuant to Exemption (6).

2. Internal Board Procedures and Technical Corrections. Closed pursuant to Exemption (2).

Recess: 9:30 a.m.

For Further Information Contact: Mary Rupp, Secretary of the Board, Telephone: (703) 518-6304.

Mary Rupp,
Secretary of the Board.

[FR Doc. 05-18173 Filed 9-8-05; 3:39 pm]

BILLING CODE 7535-01-M